FEDERAL LABOR RELATIONS AUTHORITY

[FLRA Docket No. AT-RP-22-0007]

Notice of Opportunity To Submit Amici Curiae Briefs in a Representation Proceeding Pending Before the Federal Labor Relations Authority

AGENCY: Federal Labor Relations Authority.

ACTION: Notice.

SUMMARY: The Federal Labor Relations Authority (Authority) provides an opportunity for all interested persons to submit briefs as amicus curiae on an issue arising in a case pending before the Authority. The issue concerns whether section 7111(f)(4) of the Federal Service Labor-Management Relations Statute (the Statute) or § 2422.12(b) of the Authority's Regulations apply to bar decertification petitions filed within twelve months after a labor organization is certified, without an election, as exclusive representative of a consolidated bargaining unit under section 7112 of the Statute. Because this issue is likely to be of concern to agencies, labor organizations, and other interested persons, the Authority finds it appropriate to provide for the filing of amici briefs addressing the above question.

DATES: To be considered, briefs must be received on or before August 30, 2022.

ADDRESSES: Mail briefs to Brandon Bradley, Chief, Office of Case Intake and Publication, Federal Labor Relations Authority, Docket Room, Suite 200, 1400 K Street NW, Washington, DC 20424-0001.

FOR FURTHER INFORMATION CONTACT: Brandon Bradley, Chief, Office of Case Intake and Publication, Federal Labor Relations Authority, (202) 218-7740.

SUPPLEMENTARY INFORMATION: On July 19, 2022, the Authority granted an application for review of the Regional Director's (RD's) decision and order (decision) dismissing the petition in U.S. Department of the Interior, National Park Service, Blue Ridge Parkway, North Carolina, Case No. AT-RP-22-0007, 73 FLRA 120 (2022) (NPS). A summary of the case follows.

1. Background and RD's Decision

The RD certified the American Federation of Government Employees, AFL-CIO, (Union) without an election, as the exclusive representative of a consolidated bargaining unit under section 7112(d) of the Statute. Later that same month, an individual (Petitioner) filed a petition seeking an election to decertify the Union as the exclusive representative of the consolidated unit (decertification petition). The Petitioner asserted that section 7111(f)(4) of the Statute did not bar the decertification petition, because the Authority had not conducted a secret-ballot election for the consolidated unit within the previous twelve months. In addition, the Petitioner argued that applying a certification bar to consolidations would improperly incentivize unions to consolidate bargaining units in order to prevent the filing of decertification petitions.

The RD found that under section 7111(f)(4) of the Statute and § 2422.12(b) of the Authority's Regulations, a certification bar arises from a certification of a consolidated bargaining unit. Citing the Authority's decision in Commodity Futures Trading Commission, Eastern Regional Office, New York, New York, 70 FLRA 291 (2017) (CFTC), the RD explained that the certification bar does not apply to petitions filed before the issuance of a certification of a consolidated unit. However, because the Petitioner filed its decertification petition after the consolidation certification issued to the Union, the RD concluded that the certification bar applied.

Based on the plain wording of § 2422.12(b) of the Authority's Regulations, the RD determined that an election was not required to trigger the certification bar. In response to the Petitioner's policy argument, the RD found that the Statute adequately protects against consolidations that are undertaken to prevent the filing of decertification petitions.

Based on these findings, the RD dismissed the decertification petition as untimely.

2. Application for Review

In an application for review of the RD's decision, the Petitioner argued that the RD's decision raised an issue for which there is an absence of precedent: whether a certification bar applies to decertification petitions filed after the certification of a labor organization as exclusive representative of a consolidated unit. The Petitioner asserted that the Authority has never explicitly addressed whether section 7111(f)(4) of the Statute or § 2422.12(b) of the Authority's Regulations apply to bar decertification petitions filed within twelve months of a certification of a consolidated bargaining unit under section 7112(d) of the Statute. According to the Petitioner, neither those statutory or regulatory provisions, nor the Authority's decision in CFTC, support the RD's dismissal of the decertification petition. Additionally, the Petitioner alleged that the Office of the General Counsel's Representation Case Handling Manual failed to provide a basis for the RD's application of the certification bar.

3. Question on Which Briefs Are Solicited

In NPS, the Authority found that the RD's decision raised a question for which there is an absence of precedent. Accordingly, the Authority directed the parties to file briefs addressing the following question:

Does section 7111(f)(4) of the Statute or § 2422.12(b) of the Authority's Regulations apply to bar decertification petitions filed within twelve months after a labor organization is certified, without an election, as exclusive representative of a consolidated bargaining unit under section 7112(d) of the Statute?

In answering that question, the parties should address any pertinent considerations of: (1) statutory construction; (2) legislative and regulatory history; (3) applicable precedent, including under the National Labor Relations Act; and (4) policy.

4. Required Format for Briefs

All briefs shall be captioned “U.S. Department of the Interior, National Park Service, Blue Ridge Parkway, North Carolina, Case No. AT-RP-22-0007.” Briefs shall contain separate headings for each issue covered. Interested persons must submit an original and four (4) copies of each amicus brief, with any enclosures, on 8½ × 11 inch paper. Briefs must include a signed and dated statement of service that complies with the Authority's Regulations showing service of one copy of the brief on all counsel of record or other designated representatives as well as the Federal Labor Relations Authority Regional Director involved in this case. 5 CFR 2429.27. Accordingly, briefs must be served on: Nicholas P. Provenzo, Esq., c/o National Right to Work Legal Defense Foundation, Inc., 8001 Braddock Road, Ste. 600, Springfield, VA 22160-2110; Cathie McQuiston, Esq., Deputy General Counsel, AFGE, AFL-CIO, 80 F Street NW, Washington, DC 20001; Eboni Speller, Regional Human Resources Specialist, Interior Region 2 Human Resources (ER/LR), National Park Service, Department of the Interior, 1924 Building, 100 Alabama St. SW, Atlanta, GA 30303; and Brent Hudspeth, Acting Regional Director, Atlanta Regional Office, Federal Labor Relations Authority, 229 Peachtree Street NE, Ste. 900, International Tower, Atlanta, GA 30303. Interested persons may obtain copies of the Authority's decision granting the application for review in this case on the FLRA's website, www.flra.gov.

Noah Peters,
Solicitor, Federal Labor Relations Authority.

[FR Doc. 2022-15863 Filed 7-22-22; 8:45 am]

BILLING CODE 6727-01-P